DEPARTMENT OF JUSTICE

Notice of Lodging of Proposed Consent Decree Under the Comprehensive Environmental Response, Compensation, and Liability Act

On January 17, 2017, the Department of Justice lodged a proposed Consent Decree with the United States District Court for the Eastern District of Wisconsin in the lawsuit entitled United States and the State of Wisconsin v. NCR Corp., et al., Civil Action No. 10-cv-910.

In 2010, the United States and the State of Wisconsin filed this action under the Comprehensive Environmental Response, Compensation, and Liability Act, 42 U.S.C. 9601 et seq. (“CERCLA”). The United States and the State brought claims against NCR Corporation (“NCR”), Appvion, Inc. (“Appvion”), and other defendants for recovery of response costs and natural resource damages, as well as enforcement of an administrative cleanup order issued by the U.S. Environmental Protection Agency (“EPA”), concerning polychlorinated biphenyl contamination in sediment at the Lower Fox River and Green Bay Superfund Site in northeastern Wisconsin (the “Site”). Most of the original defendants entered into earlier, court-approved settlements with the United States and the State.

The proposed Consent Decree with two remaining defendants—NCR and Appvion—would require NCR to continue and complete the ongoing sediment remediation work at the Site, which is currently being performed under EPA's cleanup order. The settlement requires NCR to finish most of that work by the end of 2018, including the dredging and off-Site disposal of contaminated sediment located in the last few miles of the Lower Fox River and Green Bay. In return, the United States and the State agree not to continue pursuing their claims for the Site against NCR and Appvion under sections 106 and 107 of CERCLA. Under EPA's cleanup order and prior court orders in the litigation, other defendants will have primary responsibility for long-term monitoring and maintenance of specially-engineered sediment containment caps installed in some portions of the river. The United States and the State also will continue their pursuit of cost recovery claims against one non-settling defendant, P.H. Glatfelter Company.

The publication of this notice opens a period for public comment on the Consent Decree. Comments should be addressed to the Assistant Attorney General, Environment and Natural Resources Division, and should refer to United States and the State of Wisconsin v. NCR Corp., et al., D.J. Ref. No. 90-11-2-1045/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $17.50 (25 cents per page reproduction cost) payable to the United States Treasury.

Randall M. Stone,
Acting Assistant Section Chief, Environmental Enforcement Section, Environment and Natural Resources Division.

[FR Doc. 2017-01416 Filed 1-19-17; 8:45 am]

BILLING CODE 4410-15-P